DEPARTMENT OF COMMERCE

Foreign-Trade Zones Board

[B-76-2012]

Foreign-Trade Zone 168—Dallas/Ft. Worth, TX; Notification of Proposed Production Activity, Richemont North America, Inc. dba Cartier (Eyewear Assembly/Kitting), Grand Prairie, TX

The Metroplex International Trade Development Corporation, grantee of FTZ 168, submitted a notification of proposed production activity on behalf of Richemont North America, Inc. dba Cartier (Cartier), located in Grand Prairie, Texas. The notification conforming to the requirements of the regulations of the Board (15 CFR 400.22) was received on October 17, 2012.

The Cartier facility is located within Site 4 of FTZ 168. The facility is used for the assembly/kitting of eyewear products. Production under FTZ procedures could exempt Cartier from customs duty payments on the foreign status components used in export production. On its domestic sales, Cartier would be able to choose the duty rates during customs entry procedures that apply to eyewear products (duty rate 2%-2.5%) for the foreign status inputs noted below. Customs duties also could possibly be deferred or reduced on foreign status production equipment.

Components and materials sourced from abroad include eyewear frames and parts (duty rate ranges from free to 2.5%).

Public comment is invited from interested parties. Submissions shall be addressed to the Board's Executive Secretary at the address below. The closing period for their receipt is December 5, 2012.

A copy of the notification will be available for public inspection at the Office of the Executive Secretary, Foreign-Trade Zones Board, Room 21013, U.S. Department of Commerce, 1401 Constitution Avenue NW, Washington, DC 20230-0002, and in the “Reading Room” section of the Board's Web site, which is accessible via www.trade.gov/ftz.

FOR FURTHER INFORMATION CONTACT: Christopher Kemp at Christopher.Kemp@trade.gov or (202) 482-0862.

Dated: October 22, 2012.
Elizabeth Whiteman,
Acting Executive Secretary.

[FR Doc. 2012-26424 Filed 10-25-12; 8:45 am]

BILLING CODE P